DEPARTMENT OF COMMERCE

Economic Development Administration

Notice of Petitions by Producing Firms for Determination of Eligibility To Apply for Trade Adjustment Assistance

AGENCY: Economic Development Administration (EDA).

ACTION: To give firms an opportunity to comment.

Petitions have been accepted for filing on the dates indicated from the firms listed below.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

List of Petition Action by Trade Adjustment Assistance for Period 01/25/01-02/15/01
Firm name | Address | Date petition accepted | Product
Advance Products & Systems, Inc | 108 Asset Avenue, Scott, Louisiana 70583 | 01/25/01 | Flange protectors and casing insulators.
ILPEA, Inc | 3333 South Zero Street, Ft. Smith, AR 72908 | 01/25/01 | Rubber gaskets and seals.
Midwest Industries, Inc | 614 West Main Meeker, OK 74885 | 01/30/01 | Magnets made of metal wire for material handling containers, the containers and racks of metal.
Creative Fabrication, Inc | 172 Industrial Park Road, Hartwell, GA 30643 | 01/30/01 | Circular springs of steel.
Keeler Brass Company | 955 Godfrey Ave., SW., Grand Rapids, MI 40503 | 01/30/01 | Furniture hardware made of brass.
Ace Building Co., Inc | 3031 James Street, Baltimore, MD 21230 | 01/30/01 | Bias bindings and waistbands for the apparel industry.
A. T. Cross Company, Inc | 1 Albion Road Lincoln, RI 02865 | 01/30/01 | Ball point pens, pen and pencil sets and mechanical pencils.
Rex-Cut Products, Inc | 960 Airport Road, Fall River, MA 02722 | 02/05/01 | Reinforced cotton fiber abrasive grinding wheels and points for stainless steel.
Boehringer Laboratories, Inc | 500 East Washington St., Norristown, PA 19404 | 02/05/01 | Suction regulators, autovac T C orthopedic autotransfusion systems, and peep valves used in operating and postoperating rooms.
Crust Buster, Inc | 2300 E. Trail Street, Dodge City, KS 67801 | 02/05/01 | Cotton machinery, grain drills and bulk material conveyor equipment.
General Leathercraft, Inc | 900 Airport Road, Coleman, TX 76834 | 02/05/01 | Gymnasium and other exercise articles, and equipment, parts and accessories, including mats, back support and weightlifting.
J. A. Thurston Co., Inc | P. O. Box H Rumford, Maine 04276 | 02/05/01 | Hardwood glue pins.
Gaddis-Walker Electric, Inc., dba Modular Services Co. | 109 N. 38th Street, Oklahoma City, OK 73105 | 02/05/01 | Parts and accessories for machines, appliances, instruments or apparatus which include metal hospital wall units.
Wayne Metal Protection, Inc | 1511 Wabash Avenue, Fort Wayne, IN 46803 | 02/06/01 | Environmentally appropriate protective coatings for iron and steel hydraulic fittings and hardware.
Matrix Tool Company, Inc | 32873 Groesbeck Highway, Fraser, MI 48026 | 02/06/01 | Metal forming dies and general machining services.
Boardman Silversmiths, Inc | 290 Pratt Street, Meriden, CT 06450 | 02/06/01 | Sterling silver and pewter gift- and tableware.
Amergraph Corporation | 520 Lafayette Road, Sparta, NJ 07871 | 02/07/01 | Printing presses.
Rycam, Inc. dba Wes & Willy | P. O. Box 31698, Omaha, NE 68131 | 02/07/01 | Boys clothing.
Endres Floral Company | 1401 Pleasant Hill Rd. NW., New Philadelphia, OH 44663 | 02/13/01 | Roses, other cut flowers and potted plants.
Lnytech Industries, Inc | 106 McLean Boulevard Paterson, NJ 07514 | 02/14/01 | Industrial organic chemical auxiliaries, soaps, detergents and cleaners used by the textile and car wash industries.

Dated: February 22, 2001.
Anthony J. Meyer,
Coordinator, Trade Adjustment and Technical Assistance.

[FR Doc. 01-4827 Filed 2-27-01; 8:45 am]

BILLING CODE 3510-24-P